DEPARTMENT OF THE INTERIOR

National Park Service

[NPS-WASO-NAGPRA-NPS0031392; PPWOCRADN0-PCU00RP14.R50000]

Notice of Inventory Completion: Indiana University, Bloomington, IN; Correction

AGENCY: National Park Service, Interior.

ACTION: Notice; correction.

SUMMARY: Indiana University has corrected an inventory of human remains and associated funerary objects, published in a Notice of Inventory Completion in the Federal Register on December 2, 2016. This notice corrects the minimum number of individuals and the number of associated funerary objects. Lineal descendants or representatives of any Indian Tribe or Native Hawaiian organization not identified in this notice that wish to request transfer of control of these human remains and associated funerary objects should submit a written request to the Indiana University NAGPRA Office. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the Indiana University NAGPRA Office at the address in this notice by March 1, 2021.

ADDRESSES: Dr. Jayne-Leigh Thomas, NAGPRA Director, Indiana University, NAGPRA Office, Student Building 318, 701 E. Kirkwood Avenue, Bloomington, IN 47405, telephone (812) 856-5315, email thomajay@indiana.edu.

SUPPLEMENTARY INFORMATION: Notice is here given in accordance with the Native American Graves Protection and Repatriation Act (NAGPRA), 25 U.S.C. 3003, of the correction of an inventory of human remains and associated funerary objects under the control of Indiana University, Bloomington, IN. The human remains and associated funerary objects were removed from North Dakota.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and number of associated funerary objects published in a Notice of Inventory Completion in the Federal Register (81 FR 87064-87065, December 2, 2016). The correction is being made due to a reassessment of the human remains and the discovery of additional human remains and funerary objects. Transfer of control of the items in this correction notice has not occurred.

Correction

In the Federal Register (81 FR 87064, December, 2, 2016), column 2, paragraph 4, sentence 2 is corrected by substituting the following sentence:

Human remains, representing a minimum of 69 individuals, were recovered from this site.

In the Federal Register (81 FR 87064, December 2, 2016), column 2, paragraph 5, sentence 4 is corrected by substituting the following sentence:

Human remains, representing a minimum of 35 individuals, were recovered.

In the Federal Register (81 FR 87064, December 2, 2016}), column 2, paragraph 5, sentence 6 is corrected by substituting the following sentence:

The 11 associated funerary objects are 10 blue glass beads and one mammal bone.

In the Federal Register (81 FR 87064, December 2, 2016}), column 3, paragraph 3, inserting the following sentences at the end of the paragraph:

Notes indicate that this collection is likely from North Dakota, with ID designations of Ar-34, Ar-3, and Ar-37. Four of these individuals are specifically labeled `Arikara' or `Mandan'. It is interpreted that the `Ar' is indicative of `Arikara'.

In the Federal Register (81 FR 87064, December 2, 2016), column 3, paragraph 4, the following sentences are added to the beginning of the paragraph:

Found with these collections were four additional boxes containing human remains representing four individuals. Three of the boxes were labeled as `Arikara' and the fourth was labeled `Ar-6', which is interpreted as `Arikara'.

In the Federal Register (81 FR 87065, December 2, 2016), column 1, paragraph 1, sentence 1 is corrected by substituting the following sentence:

Pursuant to 25 U.S.C. 3001(9), the human remains described in this notice represent the physical remains of 157 individuals of Native American ancestry.

In the Federal Register (81 FR 87065, December 2, 2016), column 1, paragraph 1, sentence 2 is corrected by substituting the following sentence:

Pursuant to 25 U.S.C. 3001(3)(A), the 94 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Dr. Jayne-Leigh Thomas, NAGPRA Director, Indiana University, NAGPRA Office, Student Building 318, 701 E Kirkwood Avenue, Bloomington, IN 47405, telephone (812) 856-5315, email thomajay@indiana.edu, by March 1, 2021. After that date, if no additional requestors have come forward, transfer of control of the human remains and associated funerary objects to the Three Affiliated Tribes of the Fort Berthold Reservation, North Dakota may proceed.

Indiana University is responsible for notifying the Three Affiliated Tribes of the Fort Berthold Reservation, North Dakota that this notice has been published.

Dated: January 14, 2021.
Melanie O'Brien,
Manager, National NAGPRA Program.

[FR Doc. 2021-01901 Filed 1-27-21; 8:45 am]

BILLING CODE 4312-52-P